Title 3—

The President

Proclamation 9927 of September 13, 2019

National Hispanic Heritage Month, 2019

By the President of the United States of America

A Proclamation

National Hispanic Heritage Month celebrates the accomplishments of Hispanic Americans, who have enriched our culture and society and helped make America into the incredible country it is today. Hispanic-American men and women embody the American values of devotion to faith and family, hard work, and patriotism through their countless contributions as leaders, innovators, entrepreneurs, and members of our Armed Forces.

Since I took office, Hispanic-American unemployment rates and poverty rates have hit record lows. My Administration is always working to create an environment that fosters opportunity for all Americans. That is why I signed the pro-growth Tax Cuts and Jobs Act, which has put more money in the pockets of American workers and has given businesses more money to invest in their employees. This historic legislation also created Opportunity Zones that are driving investment toward and revitalizing distressed communities. My Administration has slashed unnecessary and burdensome regulations to allow entrepreneurs to use their creativity to contribute to our economic growth. Our thriving economy is enabling more Hispanic Americans to achieve the American Dream.

Additionally, we have worked to strengthen our economic and political relationship with our Latin American partners. We successfully renegotiated the North American Free Trade Agreement with the signing of the United States-Mexico-Canada Agreement (USMCA), a trade deal that will benefit all parties and American workers. Once approved by the Congress, USMCA will protect jobs, ensure fair trade, bolster our economies, and allow our nations to prosper. We have also worked to support liberty by standing with the community of democracies in the Western Hemisphere against the authoritarian regimes in Venezuela, Cuba, and Nicaragua. The United States has strong security and economic interests in a safe and prosperous Latin America.

This month, we honor Hispanic Americans for their countless contributions to our Nation. Through their dedication to family, community, and our country, they help to build a better future for all Americans. To honor the achievements of Hispanic Americans, the Congress, by Public Law 100-402, as amended, has authorized and requested the President to issue annually a proclamation designating September 15 through October 15 as “National Hispanic Heritage Month.”

NOW, THEREFORE, I, DONALD J. TRUMP, President of the United States of America, by virtue of the authority vested in me by the Constitution and the laws of the United States, do hereby proclaim September 15 through October 15, 2019, as National Hispanic Heritage Month. I call upon public officials, educators, librarians, and all Americans to observe this month with appropriate ceremonies, activities, and programs.

IN WITNESS WHEREOF, I have hereunto set my hand this thirteenth day of September, in the year of our Lord two thousand nineteen, and of the Independence of the United States of America the two hundred and forty-fourth.

[FR Doc. 2019-20363

Filed 9-17-19; 11:15 am]

Billing code 3295-F9-P